DEPARTMENT OF HOMELAND SECURITY

48 CFR Parts 3009 and 3052

[Docket No. DHS-2010-0017]

RIN 1601-AA55

Prohibition on Federal Protective Service Guard Services Contracts With Business Concerns Owned, Controlled, or Operated by an Individual Convicted of a Felony [HSAR Case 2009-001]; Correction

AGENCY: Office of the Chief Procurement Officer, DHS.

ACTION: Final rule; correction.

SUMMARY: This document makes corrections to the Homeland Security Acquisition Regulation in order to make technical citation changes and to remove redundant language.

DATES: Effective date: December 16, 2009.

FOR FURTHER INFORMATION CONTACT: Gloria Sochon, Senior Procurement Analyst, at (202) 447-5307 for clarification of content.

SUPPLEMENTARY INFORMATION: This document makes corrections to the Homeland Security Acquisition Regulation (HSAR), final rule Prohibition on Federal Protective Service Guard Services Contracts with Business Concerns Owned, Controlled, or Operated By an Individual Convicted of a Felony [HSAR Case 2009-001], 74 FR 58851 (Nov. 16, 2009). The technical corrections are required to conform the HSAR to citation in the Federal Acquisition Regulations and remove redundant language.

In FR Doc. E9-27330, published November 16, 2009 (74 FR 58851), make the following corrections:

Subpart 3009 [Corrected]

1. On page 58856, column 1, instruction 2a, is revised to read “Redesignating section 3009.104-70 as section 3009.108-70, and subsections 3009.104-71 through 3009.104-75 as subsections 3009.108-7001 through 3009.108-7005, respectively, and section 3009.170 is added and reserved.

3052.209-76 [Corrected]

2. On page 58858, column 2, in subsection 3052.209-76, in the header of the contract clause, remove “(AUG 2009)” and add in its place “(DEC 2009)”.

3. On page 58858, at the bottom of column 2, in section 3052.209-76(c)(2)(v)(A) remove:

“Ability to direct in any manner the election of a majority of the business concern's directors or trustees; or”.

Mary Kate Whalen,
Associate General Counsel for Regulatory Affairs.

[FR Doc. E9-29881 Filed 12-15-09; 8:45 am]

BILLING CODE 9110-9B-P